DEPARTMENT OF ENERGY

Orders Granting Authority To Import and Export Natural Gas, To Import and Export Liquefied Natural Gas, To Vacate Prior Authority and, To Approve Change in Control of Authority During September 2014

| FE Docket Nos.
POWER CITY PARTNERS, L.P | 14-113-NG
TWIN EAGLE RESOURCE MANAGEMENT, LLC | 14-102-NG
CARIB ENERGY (USA) LLC | 11-141-LNG
CAMERON LNG, LLC | 11-162-LNG
NUTRECO CANADA INC | 14-111-NG
IBERDROLA ENERGY SERVICES, LLC | 14-104-NG
HESS ENERGY TRADING COMPANY, LLC | 14-109-NG
AKITON SA LLC | 14-114-LNG
ENERGY PLUS GAS LLC | 14-116-NG
COMISION FEDERAL DE ELECTRICIDAD | 14-117-NG
TRAFIGURA AG | 14-118-NG
FREEPORT LNG EXPANSION, L.P.; FLNG LIQUEFACTION, LLC; FLNG LIQUEFACTION 2, LLC; FLNG LIQUEFACTION 3, LLC | 14-005-CIC
BTG PACTUAL COMMODITIES (US LLC) | 14-105-NG
SEMCO ENERGY, INC. d/b/a SEMCO ENERGY GAS COMPANY | 14-121-NG
SEQUENT ENERGY MANAGEMENT, L.P | 14-122-NG
MEXICANA DE COBRE, S.A. DE C.V | 14-124-NG
REGENT RESOURCES LTD | 14-125-NG

AGENCY: Office of Fossil Energy, Department of Energy.

ACTION: Notice of orders.

SUMMARY: The Office of Fossil Energy (FE) of the Department of Energy gives notice that during September 2014, it issued orders granting authority to import and export natural gas, to import and export liquefied natural gas, to vacate prior authority, and to approve change in control of authority. These orders are summarized in the attached appendix and may be found on the FE Web site at http://www.fossil.energy.gov/programs/gasregulation/authorizations/Orders-2014.html.

They are also available for inspection and copying in the Office of Fossil Energy, Office of Oil and Gas Global Security and Supply, Docket Room 3E-033, Forrestal Building, 1000 Independence Avenue SW., Washington, DC 20585, (202) 586-9478. The Docket Room is open between the hours of 8:00 a.m. and 4:30 p.m., Monday through Friday, except Federal holidays.

Issued in Washington, DC, on January 5, 2015.
John A. Anderson,
Director, Office of Oil and Gas Global Security and Supply, Office of Oil and Natural Gas.

APPENDIX—DOE/FE ORDERS GRANTING IMPORT/EXPORT AUTHORIZATIONS

3485 | 09/04/14 | 14-113-NG | Power City Partners, L.P | Order granting blanket authority to import natural gas from Canada.
3486 | 09/08/14 | 14-102-NG | Twin Eagle Resource Management, LLC | Order granting blanket authority to import/export natural gas from/to Canada and to export natural gas to Mexico and vacating prior authority granted in Order 3322.
3487 | 09/10/14 | 11-141-LNG | Carib Energy (USA) LLC | Final Order granting long-term multi-contract authority to export LNG in ISO containers by vessel to Non-Free Trade Agreement Nations in Central America, South America, or the Caribbean.
3391-A | 09/10/14 | 11-162-LNG | Cameron LNG, LLC | Final Opinion and Order granting long-term multi-contract authorization to export LNG by vessel from the Cameron LNG Terminal in Cameron Parish, Louisiana, to Non-Free Trade Agreement Nations.
3488 | 09/25/14 | 14-111-NG | Nutreco Canada Inc | Order granting blanket authority to import/export natural gas from/to Canada.
3489 | 09/18/14 | 14-104-NG | Iberdrola Energy Services, LLC | Order granting blanket authority to import/export natural gas from/to Mexico.
3490 | 09/18/14 | 14-109-NG | Hess Energy Trading Company, LLC | Order granting blanket authority to import/export natural gas from/to Canada.
3491 | 09/18/14 | 14-114-LNG | Akiton SA LLC | Order granting blanket authority to import/export LNG from/to Canada/Mexico by truck.
3492 | 09/18/14 | 14-116-NG | Energy Plus Gas LLC | Order granting blanket authority to import/export natural gas from/to Canada.
3493 | 09/18/14 | 14-117-NG | Comision Federal de Electricidad | Order granting blanket authority to import/export natural gas from/to Mexico.
3494 | 09/18/14 | 14-118-NG | Trafigura AG | Order granting blanket authority to import/export natural gas from/to Canada/Mexico.
3495 | 09/23/14 | 14-005-CIC | Freeport LNG Expansion, L.P.; FLNG Liquefaction, LLC; FLNG Liquefaction 2 LLC; FLNG Liquefaction 3 LLC | Order approving change in control of export authorizations.
3496 | 09/25/14 | 14-105-NG | BTG Pactual Commodities (US) LLC | Order granting blanket authority to import/export natural gas from/to Canada/Mexico.
3497 | 09/25/14 | 14-121-NG | SEMCO Energy, Inc. d/b/a SEMCO Energy Gas Company | Order granting blanket authority to import/export natural gas from/to Canada.
3498 | 09/25/14 | 14-122-NG | Sequent Energy Management, L.P | Order granting blanket authority to import/export natural gas from/to Mexico.
3499 | 09/25/14 | 14-124-NG | Mexicana de Cobre, S.A. de C.V | Order granting blanket authorization to export natural gas to Mexico.
3500 | 09/25/14 | 14-125-NG | Regent Resources Ltd | Order granting blanket authorization to import natural gas from Canada.

[FR Doc. 2015-00513 Filed 1-13-15; 8:45 am]

BILLING CODE 6450-01-P